DEPARTMENT OF ENERGY

Federal Energy Regulatory Commission

[EG17-136-000, EG17-137-000, EG17-138-000, EG17-139-000, EG17-140-000, EG17 141-000, EG17-142-000, EG17-143-000, EG17-144-000, EG17-145-000, EG17-146-000, EG17-147-000, EG17-148-000, FC17-5-000]

Notice of Effectiveness of Exempt Wholesale Generator and Foreign Utility Company Status; Moffett Solar 1, LLC, Techren Solar I LLC, Southampton Solar LLC, Cuyama Solar, LLC, Middle Daisy, LLC, Shoreham Solar Commons LLC, Shoreham Solar Commons Holdings LLC, Golden Hills North Wind, LLC, St. Joseph Energy Center, LLC, Imperial Valley Solar 3, LLC, Thunder Ranch Wind Project, LLC, Scott-II Solar LLC, HD Project One, LLC, Aspa Energias Renovables, S.L.U.

Take notice that during the month of October 2017, the status of the above-captioned entities as Exempt Wholesale Generators or Foreign Utility Companies became effective by operation of the Commission's regulations. 18 CFR 366.7(a)(2017).

Dated: November 15, 2017.
Nathaniel J. Davis, Sr.,
Deputy Secretary.

[FR Doc. 2017-25154 Filed 11-20-17; 8:45 am]

BILLING CODE 6717-01-P